NUCLEAR REGULATORY COMMISSION

Notice of Issuance of Regulatory Guide

AGENCY: Nuclear Regulatory Commission.

ACTION: Notice of Issuance and Availability of Regulatory Guide 10.6, Revision 2.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 10.6, “Guide for the Preparation of Applications for an Industrial Radiography License,” was issued with a temporary identification as Draft Regulatory Guide DG-0016. This guide directs the reader to the type of information needed by the NRC staff to evaluate an application for an industrial radiography (radiography) license. The term “radiography” as used in this guide means an examination of the structure of materials by nondestructive methods using ionizing radiation from gamma-emitting byproduct materials (radioisotopes) to produce radiographic images. This guide does not address the research and development of radiography devices or associated equipment, or the commercial aspects of manufacturing, distributing, and servicing such devices and equipment.

The regulatory framework that the NRC has established for radiography includes Title 10, Part 30, “Rules of General Applicability to Domestic Licensing of Byproduct Material,” of the Code of Federal Regulations (10 CFR part 30); 10 CFR part 34, “Licenses for Industrial Radiography and Radiation Safety Requirements for Industrial Radiographic Operations;” and NRC Form 313, “Application for Materials License.”

This regulatory guide endorses the methods and procedures contained in the current revision of NUREG-1556, Volume 2, “Consolidated Guidance About Material Licenses: Program-Specific Guidance About Industrial Radiography Licenses,” as a process that the NRC staff finds acceptable for meeting the regulatory requirements and providing the criteria for evaluating a radiography license application.

II. Further Information

In January 2008, DG-0016 was published with a public comment period of 60 days from the issuance of the guide. No comments were received and the public comment period closed on April 18, 2008. Electronic copies of Regulatory Guide 10.6, Revision 2 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 2nd day of July, 2008.
For the Nuclear Regulatory Commission.
Stephen C. O'Connor,
Chief, Regulatory Guide Development Branch, Division of Engineering, Office of Nuclear Regulatory Research.

[FR Doc. E8-15677 Filed 7-9-08; 8:45 am]

BILLING CODE 7590-01-P